DEPARTMENT OF STATE

[Public Notice 5852]

Meeting of the Environmental Affairs Council (EAC) of the Dominican Republic-Central America-United States Free Trade Agreement (CAFTA-DR)

ACTION: Notice and request for comments.

SUMMARY: The Department of State and the Office of the United States Trade Representative (USTR) are providing notice that, as set forth in Chapter 17 (Environment) of the Dominican Republic-Central America-United States Free Trade Agreement (CAFTA-DR), the United States and the other CAFTA-DR Parties (“CAFTA-DR Parties” or “the Parties”)—intend to hold the second meeting of the Environment Affairs Council (the “Council”) in Guatemala City, Guatemala on July 24, 2007. The Council will hold an information session for members of the public on July 24, 2007, at 2 p.m., at the Guatemala City Marriott Hotel, 7 Avenue 15-45, Zona 9, Guatemala City, Guatemala 01009. The purpose of the Council meetings is detailed below under SUPPLEMENTARY INFORMATION.

The meeting agenda will include discussions of: (1) A review of the implementation of Chapter 17 obligations, including a report on the operation of the Secretariat for Environmental Matters, established pursuant to Article 17.7 of the Chapter; (2) working procedures for the Secretariat; (3) anticipated activities and operations for the Secretariat; and (4) cooperative environmental activities the Parties are undertaking consistent with the CAFTA-DR Environmental Cooperation Agreement (ECA). The Department of State and USTR invite interested agencies, organizations, and members of the public to submit written comments or suggestions regarding agenda items.

In preparing written comments or suggestions, we encourage submitters to refer to:

• The CAFTA-DR's Environment Chapter including Annex 17.9, and the Final Environmental Review of CAFTA-DR, available at: http://www.ustr.gov/Trade_Agreements/Bilateral/CAFTA/Section_Index.html.

• The ECA, available at: http://www.state.gov/g/oes/rls/or/42423.htm.

• Communiqué of the EAC and Work Plan from the 2006 Council meeting at: http://www.state.gov/g/oes/env/trade/index.htm.

DATES: To be assured of timely consideration, comments are requested no later than July 7, 2007.

ADDRESSES: Written comments or suggestions should be submitted to both:

(1) Rachel Kastenberg, U.S. Department of State, Bureau of Oceans, Environment, and Science, Office of Environmental Policy by electronic mail at KastenbergRL@state.gov with the subject line “CAFTA-DR EAC Meeting” or by fax to (202) 647-5947 or (202) 647-1052; and (2) Mara M. Burr, Deputy Assistant United States Trade Representative for Environment and Natural Resources, Office of the United States Trade Representative by electronic mail at MBurr@ustr.eop.gov with the subject line “CAFTA-DR EAC Meetings” or by fax to (202) 395-6865.

FOR FURTHER INFORMATION CONTACT: Rachel Kastenberg, Telephone (202) 647-6777 or Mara M. Burr, Telephone (202) 395-7320.

SUPPLEMENTARY INFORMATION: Article 17.5 of Chapter 17 of CAFTA-DR establishes an Environment Affairs Council (the “Council”). Article 17.5 requires the Council to meet at least once a year, unless the Parties otherwise agree, to discuss the implementation of, and progress under, Chapter 17. Article 17.5 also requires, unless the Parties otherwise agree, that each meeting of the Council include a session in which members of the Council have an opportunity to meet with the public to discuss matters relating to the implementation of Chapter 17.5.

In addition, in Article 17.9 of the Chapter, the Parties recognize the importance of strengthening capacity to protect the environment and to promote sustainable development in concert with strengthening trade and investment relations and their commitment to expanding their cooperative relationship on environmental matters. Article 17.9 also notes that the Parties have negotiated an Environmental Cooperation Agreement (ECA) that sets out certain priority areas of cooperation on environmental activities. These priority areas also are reflected in Annex 17.9 and include, among other things, conserving and managing shared, migratory, and endangered species in international trade; exchanging information on domestic implementation of multilateral environmental agreements that all the Parties have ratified; and strengthening each Party's environmental management systems, including reinforcing institutional and legal frameworks and the capacity to develop, implement, administer, and enforce environmental laws, regulations, standards, and polices.

The Council held its first meeting on May 24, 2006, in Guatemala City, Guatemala. At that meeting, the Council discussed issues of mutual concern related to Chapter 17 of the CAFTA-DR, including the establishment of a Secretariat for Environmental Matters (“the Secretariat”). The Council met for the second time on July 27, 2006, to sign the Secretariat Agreement and appoint a General Coordinator for the Secretariat. At its third meeting, the Council will, among other things, (1) review the implementation of Chapter 17 obligations; (2) receive a report on the activities of the Secretariat; (3) discuss anticipated activities and operations for the Secretariat; (4) discuss working procedures for the Secretariat; and (5) review the status of cooperative environmental activities the Parties are implementing consistent with the CAFTA-DR ECA. At this meeting, a framework for future regional environmental cooperation will also be discussed.

The public is advised to refer to the State Department Web site at http://www.state.gov/g/oes/env/ for further information related to the Council meetings.

Dated: June 26, 2007.
Harvey S. Lee,
Acting Director, Office of Environmental Policy, Department of State.

[FR Doc. E7-12751 Filed 6-29-07; 8:45 am]

BILLING CODE 4710-09-P